DEPARTMENT OF JUSTICE

Antitrust Division

Notice Pursuant to the National Cooperative Research and Production Act of 1993—ODVA, Inc.

Notice is hereby given that, on February 3, 2017, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, Alicat Scientific, Inc., Tucson, AZ; Domino Printing, Cambridge, United Kingdom; Grace Engineered Products, Inc., Davenport, IA; I-CON Industry Tech., JiaXing, ZheJiang, People's Republic of China; SIKO GmbH, Buchenbach, Germany; Cape Software, Inc., The Woodlands, TX; ABB Robotics, Vasteras, Sweden; The Montalvo Corporation, Gorham, ME; Systems, Machines, Automation Components Corporation, Carlsbad, CA; Kyland Corporation, Golden, CO; FLSmidth A/S, Valby, Denmark; EN Technologies, Inc., Gyeonggi-do, Republic of Korea; Coherix, Inc., Ann Arbor, MI; Optoelectronics, Tokyo, Japan; UNIPULSE Corporation, Tokyo, Japan; Microchip Technology Incorporated, Chandler, AZ; IPDisplays, LLC, Allen, TX; and CMC Industrial Electronics Ltd., Burnaby, BC, Canada, have been added as parties to this venture.

Also, OEM Technology Solutions, Artarmon, NSW, Australia; Thermo Ramsey, Inc. (a part of Thermo Fisher Scientific), Minneapolis, MN; Halstrup-Walcher GmbH, Kirchzarten, Germany; Jacktek Systems, Inc., Acheson, AB, Canada; Chi Mei Electronics Co., Ltd., Cheung Sha Wan, Hong Kong-China; Broadcom Corporation, Irvine, CA; Doosan Heavy Industrial & Construction Co., Ltd., Gyeonggi-do, Republic of Korea; OBS Korea, Gyeonggi-do, Republic of Korea; and Canrig Drilling Technologies, Ltd., Houston, TX, have withdrawn as parties to this venture.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on August 5, 2016. A notice was published in the Federal Register pursuant to Section 6(b) of the Act on September 2, 2016 (81 FR 60746).

Patricia A. Brink,
Director of Civil Enforcement, Antitrust Division.

[FR Doc. 2017-04246 Filed 3-3-17; 8:45 am]

BILLING CODE P